DEPARTMENT OF ENERGY

Federal Energy Regulatory Commission

Combined Notice of Filings #1

Take notice that the Commission received the following electric corporate filings:

Docket Numbers: EC13-89-000.

Applicants: Blythe Energy, LLC, AltaGas Power Holdings (U.S.) Inc.

Description: Joint Application for Approval under Section 203 of Blythe Energy, LLC and AltaGas Power Holdings (U.S.) Inc.

Filed Date: 4/2/13.

Accession Number: 20130402-5176.

Comments Due: 5 p.m. ET 4/23/13.

Take notice that the Commission received the following electric rate filings:

Docket Numbers: ER13-750-001.

Applicants: ISO New England Inc.

Description: ER13-750-000 30-Day Compliance Filing to be effective 3/13/2013.

Filed Date: 4/3/13.

Accession Number: 20130403-5033.

Comments Due: 5 p.m. ET 4/24/13.

Docket Numbers: ER13-1227-000.

Applicants: Midwest Independent Transmission System Operator, Inc.

Description: 2013-04-02 Cleco Entergy Order 1000 Filing to be effective 6/1/2013.

Filed Date: 4/2/13.

Accession Number: 20130402-5154.

Comments Due: 5 p.m. ET 4/23/13.

Docket Numbers: ER13-1228-000.

Applicants: PacifiCorp.

Description: BPA Agreement for Work at Hatrock Switching Station (Revised) to be effective 6/2/2013.

Filed Date: 4/3/13.

Accession Number: 20130403-5027.

Comments Due: 5 p.m. ET 4/24/13.

Docket Numbers: ER13-1229-000.

Applicants: Badger Creek Limited.

Description: First Revised MBR Tariff to be effective 4/4/2013.

Filed Date: 4/3/13.

Accession Number: 20130403-5037.

Comments Due: 5 p.m. ET 4/24/13.

Docket Numbers: ER13-1230-000.

Applicants: Double “C” Limited.

Description: First Revised MBR Tariff to be effective 4/4/2013.

Filed Date: 4/3/13.

Accession Number: 20130403-5052.

Comments Due: 5 p.m. ET 4/24/13.

Docket Numbers: ER13-1231-000.

Applicants: Central Maine Power Company.

Description: Schedule L to Topsham IA to be effective 4/3/2013.

Filed Date: 4/3/13.

Accession Number: 20130403-5053.

Comments Due: 5 p.m. ET 4/24/13.

Docket Numbers: ER13-1232-000.

Applicants: High Sierra Limited.

Description: First Revised MBR Tariff to be effective 4/4/2013.

Filed Date: 4/3/13.

Accession Number: 20130403-5054.

Comments Due: 5 p.m. ET 4/24/13.

Docket Numbers: ER13-1233-000.

Applicants: Kern Front Limited.

Description: First Revised MBR Tariff to be effective 4/4/2013.

Filed Date: 4/3/13.

Accession Number: 20130403-5055.

Comments Due: 5 p.m. ET 4/24/13.

Docket Numbers: ER13-1234-000.

Applicants: Midwest Independent Transmission System Operator, Inc.

Description: Midwest Independent Transmission System Operator, Inc. submits Notice of Termination of Generator Interconnection Agreement No. 2333 for Project G598.

Filed Date: 4/3/13.

Accession Number: 20130403-5074.

Comments Due: 5 p.m. ET 4/24/13.

Docket Numbers: ER13-1235-000.

Applicants: Cabrillo Power I LLC.

Description: Notice of Termination of Interim Black Start Agreement of Cabrillo Power I LLC.

Filed Date: 4/3/13.

Accession Number: 20130403-5077.

Comments Due: 5 p.m. ET 4/24/13.

Docket Numbers: ER13-1236-000.

Applicants: Cabrillo Power II LLC.

Description: Notice of Termination of Interim Black Start Agreement of Cabrillo Power II LLC.

Filed Date: 4/3/13.

Accession Number: 20130403-5079.

Comments Due: 5 p.m. ET 4/24/13.

Docket Numbers: ER13-1237-000.

Applicants: Alta Wind I, LLC.

Description: First Revised MBR to be effective 4/4/2013.

Filed Date: 4/3/13.

Accession Number: 20130403-5082.

Comments Due: 5 p.m. ET 4/24/13.

Docket Numbers: ER13-1238-000.

Applicants: AEP Texas Central Company.

Description: TCC-LCRA Transmission Services Corp IA to be effective 3/7/2013.

Filed Date: 4/3/13.

Accession Number: 20130403-5084.

Comments Due: 5 p.m. ET 4/24/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 03, 2013.
Nathaniel J. Davis, Sr.,
Deputy Secretary.

[FR Doc. 2013-08641 Filed 4-11-13; 8:45 am]

BILLING CODE 6717-01-P